DEPARTMENT OF ENERGY

Federal Energy Regulatory Commission

Sunshine Act Meeting Notice

March 17, 2004.

The following notice of meeting is published pursuant to section 3(a) of the Government in the Sunshine Act (Pub. L. 94-409), 5 U.S.C. 552b.

Agency Holding Meeting: Federal Energy Regulatory Commission.

Date and Time: March 24, 2004, 10 a.m.

Place: Room 2C, 888 First Street, NE., Washington, DC 20426.

Status: Open.

Matters to be Considered: Agenda.

Note—Items listed on the agenda may be deleted without further notice.

FOR FURTHER INFORMATION CONTACT: Magalie R. Salas, Secretary, Telephone (202) 502-8400. For a recording listing items stricken from or added to the meeting, call (202) 502-8627.

This is a list of matters to be considered by the Commission. It does not include a listing of all papers relevant to the items on the agenda; however, all public documents may be examined in the Reference and Information Center.

854th—Meeting March 24, 2004, Regular Meeting, 10 a.m.

Administrative Agenda

A-1.

DOCKET# AD02-1, 000, Agency Administrative Matters

A-2.

DOCKET# AD02-7, 000, Customer Matters, Reliability, Security and Market Operations

Markets, Tariffs and Rates—Electric

E-1.

DOCKET# RT04-2, 000, ISO New England Inc., Bangor Hydro-Electric Company, Central Maine Power Company, NSTAR Electric & Gas Corporation, on behalf of its affiliates: Boston Edison Company, Commonwealth Electric Company, Cambridge Electric Light Company and Canal Electric Company,

New England Power Company, Northeast Utilities Service Company, on behalf of its operating company affiliates: The Connecticut Light and Power Company, Western Massachusetts Electric Company, Public Service Company of New Hampshire, Holyoke Power and Electric Company and Holyoke Water Power Company,

The United Illuminating Company and Vermont Electric Power Company

OTHER#S ER04-116, 000, ISO New England Inc., Bangor Hydro-Electric Company, Central Maine Power Company, NSTAR Electric & Gas Corporation, on behalf of its affiliates: Boston Edison Company, Commonwealth Electric Company, Cambridge Electric Light Company and Canal Electric Company,

New England Power Company, Northeast Utilities Service Company, on behalf of its operating company affiliates: The Connecticut Light and Power Company, Western Massachusetts Electric Company, Public Service Company of New Hampshire, Holyoke Power and Electric Company and Holyoke Water Power Company,

The United Illuminating Company and Vermont Electric Power Company

ER04-157 000 Bangor Hydro-Electric Company, Central Maine Power Company, NSTAR Electric & Gas Corporation, on behalf of its affiliates: Boston Edison Company, Commonwealth Electric Company, Cambridge Electric Light Company and Canal Electric Company,

New England Power Company, Northeast Utilities Service Company, on behalf of its operating company affiliates: The Connecticut Light and Power Company, Western Massachusetts Electric Company, Public Service Company of New Hampshire, Holyoke Power and Electric Company and Holyoke Water Power Company,

The United Illuminating Company, Vermont Electric Power Company, Central Vermont Public Service Corporation and Green Mountain Power Corporation

ER04-157, 000, Bangor Hydro-Electric Company, Central Maine Power Company, NSTAR Electric & Gas Corporation, on behalf of its affiliates: Boston Edison Company, Commonwealth Electric Company, Cambridge Electric Light Company and Canal Electric Company,

New England Power Company, Northeast Utilities Service Company, on behalf of its operating company affiliates: The Connecticut Light and Power Company, Western Massachusetts Electric Company, Public Service Company of New Hampshire, Holyoke Power and Electric Company and Holyoke Water Power Company,

The United Illuminating Company, Vermont Electric Power Company, Central Vermont Public Service Corporation and Green Mountain Power Corporation

EL01-39, 000, The Consumers of New England v. New England Power Pool

E-2.

DOCKET# ER04-321, 000, Gilroy Energy Center, LLC

OTHER#S ER04-321, 001, Gilroy Energy Center, LLC

ER04-323, 000, Los Esteros Critical Energy Facility, LLC

ER04-323, 001, Los Esteros Critical Energy Facility, LLC

ER04-324, 000, Creed Energy Center, LLC

ER04-324, 001, Creed Energy Center, LLC

ER04-325, 000, Goose Haven Energy Center, LLC

ER04-325, 001, Goose Haven Energy Center, LLC

E-3.

DOCKET# ER04-231, 000, Conectiv Bethlehem, LLC

OTHER#S ER04-231, 001, Conectiv Bethlehem, LLC

E-4.

DOCKET# ER04-509, 000, Delmarva Power & Light Company

E-5.

OMITTED

E-6.

DOCKET# ER04-539, 000, PJM Interconnection, L.L.C.

E-7.

DOCKET# ER04-554, 000, Southern Company Services, Inc.

OTHER#S ER03-386, 002, Southern Company Services, Inc.

ER03-386, 004, Southern Company Services, Inc.

E-8.

OMITTED

E-9.

DOCKET# ER04-459, 000, Southern Company Services, Inc.

E-10.

DOCKET# ER04-121, 000, ISO New England Inc.

E-11.

DOCKET# ER04-497, 000, MidAmerican Energy Company

OTHER#S ER04-497, 001, MidAmerican Energy Company

E-12.

DOCKET# ER99-4392, 004, Southwest Power Pool, Inc.

E-13.

OMITTED

E-14.

DOCKET# ER97-2353, 004, New York State Electric & Gas Corporation

OTHER#S ER97-2353, 005, New York State Electric & Gas Corporation

ER97-2353, 006, New York State Electric & Gas Corporation

ER97-2353, 012, New York State Electric & Gas Corporation

E-15.

DOCKET# ER02-2014, 006, Entergy Services, Inc.

OTHER#S ER02-2014, 007, Entergy Services, Inc.

ER02-2014, 011, Entergy Services, Inc.

E-16.

DOCKET# ER04-106, 001, Midwest Independent Transmission System Operator, Inc.

E-17.

DOCKET# ER02-1326, 008, PJM Interconnection L.L.C.

E-18.

OMITTED

E-19.

DOCKET# ER97-2355, 005, Southern California Edison Company

OTHER#S ER98-1261, 002, Southern California Edison Company

ER98-1685, 001, Southern California Edison Company

E-20.

DOCKET# ER02-2007, 001, American Electric Power Service Corporation

E-21.

OMITTED

E-22.

OMITTED

E-23.

DOCKET# ER03-404, 001, PJM Interconnection L.L.C.

OTHER#S ER03-404, 002, PJM Interconnection L.L.C.

ER03-404, 003, PJM Interconnection L.L.C.

E-24.

DOCKET# EL00-95, 087, San Diego Gas & Electric Company v.Sellers of Energy and Ancillary Services Into Markets Operated by the California Independent System Operator Corporation and the California Power Exchange

OTHER#S EL00-98, 074, Investigation of Practices of the California Independent System Operator Corporation & the California Power Exchange

E-25.

DOCKET# ER03-1126, 001, Morgan Stanley Capital Group Inc.

E-26.

OMITTED

E-27.

OMITTED

E-28.

OMITTED

E-29.

DOCKET# ER03-1115, 002, Pacific Gas and Electric Company

OTHER#S ER03-1115, 001, Pacific Gas and Electric Company

E-30.

DOCKET# ER03-31, 004, United Illuminating Company

OTHER#S ER03-31, 003, United Illuminating Company

E-31.

DOCKET# EL04-56, 000, New York Municipal Power Agency v. New York State Electric & Gas Corporation

E-32.

DOCKET# EL98-66, 000, East Texas Electric Cooperative, Inc. v.Central and South West Services, Inc.,Central Power and Light Company, West Texas Utilities Company, Public Service Company of Oklahoma and Southwestern Electric Power Company

E-33.

OMITTED

E-34.

OMITTED

E-35.

DOCKET# ER02-485, 003, Midwest Independent Transmission System Operator, Inc.

E-36.

DOCKET# EL03-166, 000, Powerex Corporation (f/k/a British Columbia Power Exchange Corp.)

OTHER#S EL03-199, 000, Powerex Corporation (f/k/a British Columbia Power Exchange Corp.)

E-37.

DOCKET# EL02-129, 000, Southern California Water Company

E-38.

DOCKET# ER03-549, 003, Southern California Edison Company

E-39.

DOCKET# EL03-209, 000, Pinnacle West Energy Corporation v.Nevada Power Company

OTHER#S EL03-213, 000, Southern Nevada Water Authority v. Nevada Power Company

E-40.

OMITTED

E-41.

DOCKET# ER02-1672, 002, Western Area Power Administration

E-42.

OMITTED

E-43.

DOCKET# EL00-95, 045, San Diego Gas & Electric Company v.Sellers of Energy and Ancillary Services Into Markets Operated by the California Independent System Operator Corporation and the California Power Exchange

OTHER#S EL00-98, 042, Investigation of Practices of the California Independent System Operator Corporation & the California Power Exchange

Markets, Tariffs and Rates—Gas

G-1.

DOCKET# RP04-171, 000, Portland Natural Gas Transmission System

G-2.

DOCKET# PR04-3, 000, Enbridge Pipelines (Alabama Intrastate)L.L.C.

G-3.

DOCKET# RP00-479, 003, Trailblazer Pipeline Company

OTHER#S RP00-624, 003, Trailblazer Pipeline Company

G-4.

DOCKET# RP01-245, 000, Transcontinental Gas Pipe Line Corporation

G-5.

DOCKET# RP00-152, 003, Northern Natural Gas Company

G-6.

DOCKET# RP99-301, 076, ANR Pipeline Company

G-7.

OMITTED

G-8.

DOCKET# RP04-119, 001, Dominion Transmission, Inc.

G-9.

DOCKET# RP04-94, 001, Northern Natural Gas Company

G-10.

DOCKET# RP03-262, 002, Natural Gas Pipeline Company of America

G-11.

DOCKET# RP95-408, 052, Columbia Gas Transmission Corporation

G-12.

DOCKET# RP99-301, 095, ANR Pipeline Company

G-13.

OMITTED

G-14.

DOCKET# RP00-241, 010, Public Utilities Commission of the State of California v. El Paso Natural Gas Company, El Paso Merchant Energy-Gas,L.P., and El Paso Merchant Energy Company

G-15.

DOCKET# RP03-70, 005, Gas Transmission Northwest Corporation (formerly PG&E Gas Transmission, Northwest Corporation)

OTHER#S RP03-70, 004, Gas Transmission Northwest Corporation (formerly PG&E Gas Transmission, Northwest Corporation)

RP04-217, 000, Calpine Energy Services, LP v. Gas Transmission Northeast Corporation

G-16.

OMITTED

G-17.

DOCKET# RP04-92, 000, Georgia Public Service Commission

G-18.

DOCKET# OR96-2, 000, ARCO Products Co. a Division of Atlantic Richfield Company, Texaco Refining and Marketing Inc., and Mobil Oil Corporation v. SFPP

OTHER#S OR92-2, 002, Ultramar Diamond Shamrock Corporation and Ultramar, Inc. v. SFPP

OR96-2, 002, SFPP, L.P.

OR96-10, 000, ARCO Products Co. a Division of Atlantic Richfield Company, Texaco Refining and Marketing Inc., and Mobil Oil Corporation v. SFPP

OR96-10, 002, SFPP, L.P.

OR96-15, 000, Ultramar Diamond Shamrock Corporation and Ultramar, Inc. v. SFPP

OR96-17, 000, Ultramar Diamond Shamrock Corporation and Ultramar, Inc. v. SFPP

OR96-17, 002, SFPP, L.P.

OR97-2, 000, Ultramar Diamond Shamrock Corporation and Ultramar, Inc. v. SFPP

IS98-1, 000, SFPP, L.P.

OR98-1, 000, ARCO Products Co. a Division of Atlantic Richfield Company, Texaco Refining and Marketing Inc., and Mobil Oil Corporation v. SFPP

OR98-2, 000, Ultramar Diamond Shamrock Corporation and Ultramar, Inc. v. SFPP

OR98-13, 000, Tosco Corporation v. SFPP

OR00-4, 000, ARCO Products Co. a Division of Atlantic Richfield Company, Texaco Refining and Marketing Inc., and Mobil Oil Corporation v. SFPP

OR00-7, 000, Navajo Refining Corporation v. SFPP

OR00-9, 000, Ultramar Diamond Shamrock Corporation and Ultramar, Inc. v. SFPP

OR00-10, 000, Refinery Holding Company v. SFPP

OR98-1, 000, Tosco Corporation v. SFPP

OR00-9, 000, Tosco Corporation v. SFPP

G-19.

DOCKET# RP98-52, 051, Southern Star Central Gas Pipeline, Inc.

OTHER#S SA98-33, 003, Pioneer Natural Resources USA, Inc.

GP98-4, 006, Amoco Production Co.

GP98-3, 006, OXY USA, Inc.

GP98-13, 006, ExxonMobil

GP98-16, 006, Union Pacific Resources Inc.

G-20.

OMITTED

G-21.

DOCKET# RP00-331, 004, Algonquin Gas Transmission Company

OTHER#S RP00-331, 005, Algonquin Gas Transmission Company

RP01-23, 006, Algonquin Gas Transmission Company

RP01-23, 007, Algonquin Gas Transmission Company

RP03-176, 002, Algonquin Gas Transmission Company

RP03-176, 003, Algonquin Gas Transmission Company

Energy Projects—Hydro

H-1.

OMITTED

H-2.

DOCKET# P-1927, 019, PacifiCorp

H-3.

DOCKET# P-20, 026, PacifiCorp

OTHER#S P-472, 025, PacifiCorp

P-2401, 049, PacifiCorp

H-4.

OMITTED

H-5.

DOCKET# P-2852, 018, New York State Electric & Gas Corporation

Energy Projects—Certificates

C-1.

DOCKET# CP03-301, 000, Colorado Interstate Gas Company

OTHER#S CP03-302, 000, Cheyenne Plains Gas Pipeline Company

CP03-302, 001, Cheyenne Plains Gas Pipeline Company

CP03-302, 002, Cheyenne Plains Gas Pipeline Company

CP03-303, 000, Cheyenne Plains Gas Pipeline Company

CP03-304, 000, Cheyenne Plains Gas Pipeline Company

C-2.

DOCKET# CP93-541, 013, Young Gas Storage Company, Ltd.

C-3.

DOCKET# CP04-30, 000, Transcontinental Gas Pipe Line Corporation

C-4.

DOCKET# CP03-331, 000, EnergyNorth Natural Gas, Inc.

C-5.

DOCKET# CP04-12, 000, TransColorado Gas Transmission Company

C-6.

DOCKET# CP04-55, 000, Northwest Pipeline Corporation and Teresen Sumas Inc.

C-7.

DOCKET# CP01-416, 002, Sierra Production Company

C-8.

DOCKET# CP01-409, 000, Tractebel Calypso Pipeline, LLC

OTHER#S CP01-409, 001, Tractebel Calypso Pipeline, LLC

CP01-409, 002, Tractebel Calypso Pipeline, LLC

CP01-410, 000, Tractebel Calypso Pipeline, LLC

CP01-410, 001, Tractebel Calypso Pipeline, LLC

CP01-410, 002, Tractebel Calypso Pipeline, LLC

CP01-411, 000, Tractebel Calypso Pipeline, LLC

CP01-411, 001, Tractebel Calypso Pipeline, LLC

CP01-411, 002, Tractebel Calypso Pipeline, LLC

CP01-444, 000, Tractebel Calypso Pipeline, LLC

CP01-444, 001, Tractebel Calypso Pipeline, LLC

CP01-444, 002, Tractebel Calypso Pipeline, LLC

C-9.

DOCKET# CP04-24, 000, Gulf South Pipeline Company, LP and Prism Gas Systems, Inc.

C-10.

DOCKET# CP01-69, 002, Petal Gas Storage, L.L.C.

C-11.

OMITTED

C-12.

DOCKET# CP03-353, 000, Columbia Gas Transmission Corporation, Energy Corporation of America and Eastern American Energy Corporation

OTHER#S CP03-355, 000, Columbia Gas Transmission Corporation, Energy Corporation of America and Eastern American Energy Corporation

C-13.

DOCKET# CP04-58, 000, Sound Energy Solutions

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

Magalie R. Salas,
Secretary.

[FR Doc. 04-6505 Filed 3-18-04; 4:09 pm]

BILLING CODE 6717-01-P